DEPARTMENT OF ENERGY

Federal Energy Regulatory Commission

[Project No. 1403-068]

Yuba County Water Agency; Notice of Revised Procedural Schedule for Environmental Assessment for the Proposed Project Relicense

On November 14, 2023, Yuba County Water Agency (YCWA) filed an application to relicense the 12-megawatt Narrows Hydroelectric Project (Narrows Project) No. 1403. The project is located on the Yuba River, near the City of Marysville, in Nevada County, California. On May 12, 2025, Commission staff issued a notice of intent to prepare an environmental assessment (EA) to evaluate the effects of relicensing the Narrows Project. The notice included an anticipated schedule for issuing the EA in November 2025.

Staff are still evaluating the effects of relicensing the Narrows Project. In order for staff to fully consider all the information filed by YCWA, the procedural schedule for completing the EA is being revised as follows. Further revisions to the schedule may be made as appropriate.

Milestone | Target date
Commission issues EA | May 12, 2026.
Comments on the EA | June 11, 2026.

Questions regarding this notice may be directed to Rebecca Kipp at (202) 502-8846, or by email at Rebecca.Kipp@ferc.gov.

(Authority: 18 CFR 2.1)

Dated: November 26, 2025.
Carlos D. Clay,
Deputy Secretary.

[FR Doc. 2025-21756 Filed 12-1-25; 8:45 am]

BILLING CODE 6717-01-P